DEPARTMENT OF HOUSING AND URBAN DEVELOPMENT

[Docket No. FR-5123-N-07]

Notice of Proposed Information Collection for Public Comment on the Survey of Market Absorption of New Multifamily Units

AGENCY: Office of Policy Development and Research, HUD.

ACTION: Notice.

SUMMARY: The proposed information collection requirement described below will be submitted to the Office of Management and Budget (OMB) for approval as required by the Paperwork Reduction Act of 1995. The Department is soliciting public comments on the subject proposal.

DATES: Comments Due Date: May 25, 2007.

ADDRESSES: Interested persons are invited to submit comments regarding this proposal. Comments should refer to the proposal by name/or OMB Control Number and should be sent to: Reports Liaison Officer, Office of Policy Development and Research, Department of Housing and Urban Development, 451 7th Street, SW., Room 8234, Washington, DC 20410.

FOR FURTHER INFORMATION CONTACT: Ronald J. Sepanik, Director, Housing and Demographic Analysis Division, Office of Policy Development and Research, Department of Housing and Urban Development, 451 7th Street, SW., Washington, DC 20410. The telephone number is (202) 402-5887. This is not toll-free number. Copies of the proposed forms and other available documents submitted to OMB may be obtained from Mr. Sepanik.

SUPPLEMENTARY INFORMATION: The Department of Housing and Urban Development will submit the proposed information collection package to OMB for review as required by the Paperwork Reduction Act of 1995 (44 U.S.C. chapter 35, as amended).

This Notice is soliciting comments from members of the public and affected agencies concerning the proposed information collection of information to (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology (e.g., permitting electronic submission of responses).

This Notice also lists the following information:

Title of Proposal: Survey of Market Absorption of New Multifamily Units.

OMB Control Number: 2528-0013 (Expires 11/30/2007).

Description of the need for the information and proposed use: The Survey of Market Absorption (SOMA) provides the data necessary to measure the rate at which new rental apartments and new condominium apartments are absorbed; that is, taken off the market, usually by being rented or sold, over the course of the first twelve months following completion of a building. The data are collected at quarterly intervals until the twelve months conclude, or until the units in a building are completely absorbed. The survey also provides estimates of certain characteristics, i.e., asking rent/price, number of units, and number of bedrooms. The survey provides a basis for analyzing the degree to which new apartment construction is meeting the present and future needs of the public. Additionally, beginning with new construction in 2002, the survey will attempt to ascertain the number and degree of services provided by “Assisted Living” type units.

Members of affected public: Rental Agents/Builders.

Estimation of the total numbers of hours needed to prepare the information collection including number of respondents, frequency of response, and hours of response:

Estimated Number of Respondents: 12,000 yearly (maximum).

Estimated Time per Response: 20 minutes.

Frequency of Response: Four times (maximum).

Estimated Total Annual Burden Hours: 4,000 (12,000 × 20 minutes).

Estimated Total Annual Cost: The only cost to respondents is that of their time.

Authority: The survey is taken under Title 12, United States Code, Section 1701Z.

Dated: March 16, 2007.
Darlene F. Williams,
Assistant Secretary for Policy Development and Research.

[FR Doc. E7-5411 Filed 3-23-07; 8:45 am]

BILLING CODE 4210-67-P